ENVIRONMENTAL PROTECTION AGENCY

[OPP-2004-0167; FRL-7729-9]

2,4-D Reregistration Eligibility Decision

AGENCY: Environmental Protection Agency (EPA).

ACTION: Notice.

SUMMARY: This notice announces the availability of EPA's Reregistration Eligibility Decision (RED) for the pesticide 2,4-dichlorophenoxyacetic acid (2,4-D). The Agency's risk assessments and other related documents also are available in the 2,4-D Docket. 2,4-D is a phenoxy herbicide used for control of broadleaf weeds on a large number of food and non-food crops. The majority of 2,4-D is used to control weeds in pasture and rangeland, residential lawns, wheat, field corn, soybeans, and roadways. In addition, 2,4-D is used for aquatic weed and forest management, and is used as a growth regulator in citrus. EPA has reviewed 2,4-D through the public participation process that the Agency uses to involve the public in developing pesticide reregistration and tolerance reassessment decisions. Through these programs, EPA is ensuring that all pesticides meet current health and safety standards.

FOR FURTHER INFORMATION CONTACT: Katie Hall, Special Review and Reregistration Division (7508C), Office of Pesticide Programs, Environmental Protection Agency, 1200 Pennsylvania Ave., NW., Washington, DC 20460-0001; telephone number: (703) 308-0166; fax number: (703) 308-8041; e-mail address: hall.katie@epa.gov.

SUPPLEMENTARY INFORMATION:

I. General Information

A. Does this Action Apply to Me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How Can I Get Copies of this Document and Other Related Information?

1. Docket. EPA has established an official public docket for this action under docket identification (ID) number OPP-2004-0167. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1801 S. Bell St., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to view public comments, access the index listing of the contents of the official public docket, and to access those documents in the public docket that are available electronically. Although not all docket materials may be available electronically, you may still access any of the publicly available docket materials through the docket facility identified in Unit I.B.1. Once in the system, select “search,” then key in the appropriate docket ID number.

II. Background

A. What Action is the Agency Taking?

Under section 4 of the Federal Insecticide, Fungicide, and Rodenticide Act (FIFRA), EPA is reevaluating existing pesticides to ensure that they meet current scientific and regulatory standards. EPA has completed a Reregistration Eligibility Decision (RED) for the pesticide, 2,4-D under section 4(g)(2)(A) of FIFRA. 2,4-D is a widely used phenoxy herbicide used to control broadleaf weeds in agriculture on a variety of field, fruit, and vegetable crops; on residential and other lawns; on turf and rights-of-way; in forestry; and in aquatic settings. 2,4-D and its related salts and esters are active ingredients in approximately 660 registered pesticide products. The chemical forms of 2,4-D supported for reregistration and addressed in the RED document include: 2,4-D acid, 2,4-D dimethylamine salt (DMAS), 2,4-D isopropyl acid (IPA), 2,4-D triisopropyl acid (TIPA), 2,4-D ethylhexyl ester (EHE), 2,4-D butoxyethyl ester (BEE), 2,4-D diethylamine (DEA), 2,4-D isopropyl ester (IPE), and 2,4-D sodium salt. There are currently over 100 tolerances for 2,4-D. EPA has determined that the data base to support reregistration is substantially complete and that products containing 2,4-D are eligible for reregistration, provided the risks are mitigated in the manner described in the RED. Upon submission of any required product specific data under section 4(g)(2)(B) and any necessary changes to the registration and labeling (either to address concerns identified in the RED or as a result of product specific data), EPA will make a final reregistration decision under section 4(g)(2)(C) for products containing 2,4-D.

EPA must review tolerances and tolerance exemptions that were in effect when the Food Quality Protection Act (FQPA) was enacted in August 1996, to ensure that these existing pesticide residue limits for food and feed commodities meet the safety standard established by the new law. Tolerances are considered reassessed once the safety finding has been made or a revocation occurs. EPA has reviewed and made the requisite safety finding for the 2,4-D tolerances included in this notice.

EPA is applying the principles of public participation to all pesticides undergoing reregistration and tolerance reassessment. The Agency's Pesticide Tolerance Reassessment and Reregistration Public Participation Process, published in the Federal Register on May 14, 2004, (69 FR 26819) (FRL-7357-9) explains that in conducting these programs, EPA is tailoring its public participation process to be commensurate with the level of risk, extent of use, complexity of issues, and degree of public concern associated with each pesticide. Due to its uses, risks, and other factors, 2,4-D was reviewed through the full 6-Phase public participation process. Through this process, EPA worked extensively with stakeholders and the public to reach the regulatory decisions for 2,4-D. Two 60-day public comment periods were held for 2,4-D. The first was held in the summer of 2004, when EPA invited public comment on the Agency's preliminary human health and ecological risk assessments for 2,4-D. The approximately 50 comments received were considered in revising the risk assessments and developing preliminary risk mitigation options, which were issued for public review and a second comment period in January 2005. Over 1,000 comments were received during the second public comment period. EPA revised the risk assessments again in response to public comments and input received, as reflected in the 2,4-D RED. Because two public comment periods as well as numerous opportunities for informal consultation were offered during the development of this decision, and since all risk mitigation issues have been resolved, EPA does not plan to request additional public comment on the 2,4-D RED. The Agency therefore is issuing the 2,4-D RED without a comment period.

B. What is the Agency's Authority for Taking this Action?

Section 4(g)(2) of FIFRA as amended, directs that, after submission of all data concerning a pesticide active ingredient, “the Administrator shall determine whether pesticides containing such active ingredient are eligible for reregistration,” before calling in product specific data on individual end-use products and either reregistering products or taking other “appropriate regulatory action.”

Section 408(q) of the Federal Food, Drug, and Cosmetic Act (FFDCA), 21 U.S.C. 346a(q), requires EPA to review tolerances and exemptions for pesticide residues in effect as of August 2, 1996, to determine whether the tolerance or exemption meets the requirements of section 408(b)(2) or (c)(2) of FFDCA. This review is to be completed by August 3, 2006.

List of Subjects

Environmental protection, Pesticides and pests.

Dated: July 29, 2005.
Debra Edwards,
Director, Special Review and Reregistration Division, Office of Pesticide Programs.

[FR Doc. 05-15605 Filed 8-4-05; 9:31 am]

BILLING CODE 6560-50-S